DEPARTMENT OF COMMERCE

International Trade Administration

The Manufacturing Council: Teleconference Meeting of the Manufacturing Council

AGENCY: International Trade Administration, Commerce.

ACTION: Notice of an Open Teleconference Meeting.

SUMMARY: This notice sets forth the schedule and agenda for an open teleconference meeting of the Manufacturing Council (Council). The agenda may change to accommodate Council business. The final agenda will be posted on the Department of Commerce Web site for the Council at http://trade.gov/manufacturingcouncil, at least one week in advance of the teleconference.

DATES: May 23, 2012, 11:00 a.m.-12:00 p.m. Eastern Daylight Time (EDT) All guests are requested to register in advance. Requests for auxiliary aids, or pre-registration, should be submitted no later than May 16, 2012, to Jennifer Pilat, the Manufacturing Council, Room 4043, 1401 Constitution Avenue NW., Washington, DC 20230, telephone 202-482-4501, OACIE@trade.gov. Last minute requests will be accepted, but may be impossible to fill.

FOR FURTHER INFORMATION CONTACT: Jennifer Pilat, the Manufacturing Council, Room 4043, 1401 Constitution Avenue NW., Washington, DC 20230, telephone: 202-482-4501, email: OACIE@trade.gov.

Contact Jennifer Pilat at oacie@trade.gov to register to listen to the teleconference meeting and receive the call-in number. Meeting materials will be available on the Council's Web site: www.trade.gov/manufacturingcouncil.

SUPPLEMENTARY INFORMATION:

Background: The Council was re-chartered on April 5, 2012 to advise the Secretary of Commerce on matters relating to the U.S. manufacturing industry.

Topics to be considered: The Council will likely deliberate recommendations regarding the Trans-Pacific Partnership Agreement negotiations and energy policy. While members of the public are welcome to call in and listen to the meeting, there will not be sufficient time available for oral comments from members of the public. Any member of the public may submit pertinent written comments at any time before or after the meeting. Comments may be submitted to Jennifer Pilat at the contact information indicated above.

To be considered during the meeting, comments must be received no later than 5:00 p.m. Eastern Time on May 16, 2012, to ensure transmission to the Council prior to the meeting.

Comments received after that date will be distributed to the members but may not be considered at the meeting. Copies of Council meeting minutes will be available within 90 days of the meeting.

Dated: May 2, 2012.
Jennifer Pilat,
Executive Secretary, The Manufacturing Council.

[FR Doc. 2012-10987 Filed 5-7-12; 8:45 am]

BILLING CODE 3510-DR-P